FEDERAL COMMUNICATIONS COMMISSION

47 CFR Part 15

[ET Docket No. 98-153; FCC 03-33]

Ultra-Wideband Transmission Systems

AGENCY: Federal Communications Commission.

ACTION: Final rule; announcement of effective date.

SUMMARY: The Commission adopted new rules on the labeling of digital television receivers and other consumer electronics receiving devices. Certain rules contained new modified information collection requirements and were published in the Federal Register on October 27, 2000. This document announces the effective date of these published rules.

DATES: The amendment to § 15.525 (b) and (e) published at 68 FR 19746, April 22, 2003, became effective on April 5, 2006.

FOR FURTHER INFORMATION CONTACT: Nancy J. Brooks, Office of Engineering and Technology, Policy and Rules Division, (202) 418-2454.

SUPPLEMENTARY INFORMATION: On April 5, 2006, the Office of Management and Budget (OMB) approved the information collection requirements contained in Section 15.525 (a) and (e), pursuant to OMB Control No. 3060-1015. Accordingly, the information collection requirements contained in these rules became effective on April 5, 2006.

Federal Communications Commission.
Marlene H. Dortch,
Secretary.

[FR Doc. E7-3060 Filed 2-22-07; 8:45 am]

BILLING CODE 6712-01-P